DEPARTMENT OF AGRICULTURE

Forest Service

Kootenai National Forest, Lincoln County, MT; Grizzly Vegetation and Transportation Management Project

AGENCY: Forest Service, USDA.

ACTION: Notice of intent to prepare an environmental impact statement.

SUMMARY: The Forest Service will prepare an environmental impact statement (EIS) to disclose the environmental effects of vegetation management, fuels reduction, watershed rehabilitation activities, wildlife habitat improvement, and access management changes, including road decommissioning. The project is located in the Grizzly planning subunit on the Three Rivers Ranger District, Kootenai National Forest, Lincoln County, Montana, and northeast of Troy, Montana.

DATES: Comments concerning the scope of the analysis should be received by July 17, 2006. The draft environmental impact statement is expected to be available by February, 2007, and the final environmental impact statement is expected by June, 2007.

ADDRESSES: Send written comments to Doug Grupenhoff, Acting District Ranger, Three Rivers Ranger District, 1437 N. Hwy 2, Troy, MT 59935. Submit electronic comments to bdhiggins@fs.fed.us.

FOR FURTHER INFORMATION CONTACT: Contact Bruce Higgins, Team Leader at 559-920-2165.

SUPPLEMENTARY INFORMATION: The project area is approximately 18 air miles northeast of Troy, Montana, within all or portions of T34N, R32W-R33W, T35N, R32W-R33w, and T36N, R32W-R33W, Lincoln County, Montana.

Purpose and Need for Action

The objectives of the Grizzly Vegetation and Transportation Management Project are to: (1) Restore healthy diverse forest conditions by increasing western white pine and western larch, increasing mixed fire regime vegetation characteristics, and enhancing aspen habitat; (2) reduce fuel loadings and potential fire hazards by thinning dense stands, removing dead and dying lodgepole pine and other species, and reintroducing fire into the landscape to reduce conifer encroachment; (3) increase grizzly bear habitat and reduce watershed resource damage by decommissioning roads, implementing best management practices, and abandoning roads not necessary for future management access; and (4) produce forest products to contribute towards local and regional economies.

Proposed Action

Vegetation treatments include: Commercial timber harvest of 387 acers of clearcut with reserves, 168 acres of seed tree with reserves, 536 acres of commercial thinning, 218 acres of lodgepole salvage, and 125 acres of aspen release. Approximately 572 acres of existing plantations would be precommercial thinned.

Transportation actions include: Decommissioning 30.0 miles of road, abandonment of 17 miles, conversion of 2.4 miles of road to trails, putting into storage 20.5 miles of road for grizzly bear habitat needs, and applying best management practices to reduce sediment delivery on 55 miles of road. Approximately 2.7 miles of temporary road would be constructed to access treatment unit and then decommissioned once activities are completed. In response to the final Travel Management Rule, approximately 36 miles of road is proposed for designation as open to motorized use by highway legal vehicles, and 39 miles of trails proposed for non-motorized use.

Possible Alternatives

The Forest Service will consider a range of alternatives. One of these will be the “no action” alternative in which none of the proposed activities will be implemented. Additional alternatives may examine varying levels and locations for the proposed activities to achieve the purpose and need, as well as to respond to the issues and other resource values.

Responsible Official

The Responsible official for this project is Paul Bradford, Forest Supervisor, Kootenai National Forest, 1101 Highway 2 West, Libby, Montana 59923.

Nature of Decision To Be Made

The decision to be made includes whether to implement the proposed actions, alternatives to the proposed actions, and any design criteria or mitigation measures.

Scoping Process

A scoping package will be sent to all parties that have expressed an interest in management activities in the area, as well as those that reside within or adjacent to the project area. A legal notice will be published in the newspaper of record to notify other interested parties of the opportunity for comments. Public meetings will be held if interest is expressed by the public.

Preliminary Issues

Additional opportunities to meet grizzly bear habitat standards may be identified to meet total managed road densities. The proposed action includes the potential creation of a regeneration opening of approximately 118 acres.

Comment Requested

This notice of intent initiates the scoping process that guides the development of the draft environmental impact statement. Comments should be received 30 days following publication of this notice to be considered in preparation of the DEIS.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)
Dated: June 7, 2006.
Thomas Puchlerz,
Acting Forest Supervisor, Kootenai National Forest.

[FR Doc. 06-5328 Filed 6-15-06; 8:45 am]

BILLING CODE 3410-11-M